DEPARTMENT OF AGRICULTURE

Food and Nutrition Service

Agency Information Collection Activities: Proposed Collection; Comment Request—FNS-380, Worksheet for the Supplemental Nutrition Assistance Program Quality Control Reviews

AGENCY: Food and Nutrition Service (FNS), USDA.

ACTION: Notice.

SUMMARY: In accordance with the Paperwork Reduction Act of 1995, this notice invites the general public and other public agencies to comment on this proposed information collection. This is a revision of a currently approved collection of FNS-380, Worksheet for the Supplemental Nutrition Assistance Program's Quality Control Reviews.

DATES: Written comments must be received on or before March 18, 2013.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility and clarity of the information to be collected; and (d) ways to minimize the burden of the collection of information on those who are to respond, including use of appropriate automated, electronic, mechanical, or other technological collection techniques or other forms of information technology.

Comments may be sent to: Francis B. Heil, Food and Nutrition Service, U.S. Department of Agriculture, 3101 Park Center Drive, Room 822, Alexandria, VA 22302. Comments may also be submitted via email to SNAPHQ-Web@fns.usda.gov. Comments will also be accepted through the Federal eRulemaking Portal. Go to http://www.regulations.gov, and follow the online instructions for submitting comments electronically.

All responses to this notice will be summarized and included in the request for Office of Management and Budget (OMB) approval. All comments will be a matter of public record.

FOR FURTHER INFORMATION CONTACT: Requests for additional information or copies of this information collection should be directed to Francis B. Heil at 703-305-2442.

SUPPLEMENTARY INFORMATION: Title: Worksheet for the Supplemental Nutrition Assistance Program's (SNAP) Quality Control Reviews.

Form Number: FNS-380.

OMB Number: 0584-0074.

Expiration Date: April 30, 2013.

Type of Request: Revision of a currently approved collection.

Abstract: Form FNS-380, is a SNAP worksheet used to determine eligibility and benefits for households selected for review in the quality control sample of active cases. We estimate the total reporting burden for this collection of information as 8.9 hours, equating to a total of 467,631 hours collectively. This includes the time for State agencies analyzing the household case record; planning and carrying out the field investigation; gathering, comparing, analyzing and evaluating the review data and forwarding selected cases to the Food and Nutrition Service for Federal validation. It also includes an average interview burden of 30 minutes (0.5 hours) for each household. Additionally, we estimate the recordkeeping burden per record for the State agency to be 0.0236 hours, thereby making the recordkeeping burden associated with this information collection for the State agency to be 1,226 hours. The total estimated reporting and recordkeeping burden for this collection is 463,661.33 hours.

The reporting and recordkeeping burden for this form was previously approved under OMB clearance number 0584-0074. OMB approved the burden through April 30, 2013. Based on the most recent table of active case sample sizes and completion rates (FY2011), we estimate 51,959 FNS-380 worksheets and interviews will now be completed annually. This is a decrease of 4,106 responses from the estimate made to substantiate the current collection. This estimate will also cause a corresponding decrease in the reporting and recordkeeping burden. The decrease in response is a result of a reduction in the number of cases being pulled for review over the minimum required review amount. We are requesting a three-year approval from OMB for this information collection.

Affected Reporting Public: State, Local and Tribal Governments.

Estimated Number of Respondents: 53 State Agencies (SA).

Estimated Number of Responses per Respondent: 980.3584906.

Estimated Total Annual Responses: 51,959.

Estimated Time per Response: 8.4 hours per.

Estimated Total Burden for SA: 436,455.6.

Affected Reporting Public: Households (HH).

Estimated Number of Respondents: 51,959.

Estimated Number of Responses per Respondent: 1.

Estimated Total Annual Responses: 51,959.

Estimated Time per Response: .5 hours.

Estimated Total Burden for HH: 25,979.5.

Overall Total Reporting burden: 462,435.10 hours.

Affected Recordkeeping Public: State, Local and Tribal Governments.

Estimated Number of Respondents: 53 State Agencies.

Estimated Number of Responses per Respondent: 980.3584906.

Estimated Total Annual Responses: 51,959.

Estimated Time per Response: 0.0236 hours.

Overall Total Recordkeeping burden: 1,226.2324 hours.

Estimated Total Annual Burden on Respondents: 463,661.33 hours.

Respondent | Estimated number of respondents | Responses annually per respondent | Total annual responses (col. b × c) | Estimated avg. number of hours per response | Estimated total hours (col. d × e)
Reporting Burden
STATE AGENCIES | 53 | 980.3584906 | 51,959 | 8.4 | 436,455.6
HOUSEHOLDS | 51,959 | 1 | 51,959 | .5 | 25,979.5
Total Reporting Burden | 52,012 |  | 103,918 |  | 462,435.10
Recordkeeping Burden
STATE AGENCIES | 53 | 980.3584906 | 51,959 | 0.0236 | 1,226.2324
Total Recordkeeping Burden | 53 |  | 51,959 |  | 1,226.2324
Total Overall Burden Hours | 52,012 | 3.00 | 155,877 | 2.97 | 463,661.33

Dated: January 10, 2013.
Audrey Rowe,
Administrator, Food and Nutrition Service.

[FR Doc. 2013-00812 Filed 1-15-13; 8:45 am]

BILLING CODE 3410-30-P